ENVIRONMENTAL PROTECTION AGENCY

[EPA-HQ-OLEM-2016-0465, FRL-12421-01-OMS]

Information Collection Request Submitted to OMB for Review and Approval; Comment Request; Information Requirements for Boilers and Industrial Furnaces (Renewal)

AGENCY: Environmental Protection Agency

ACTION: Notice.

SUMMARY: The Environmental Protection Agency (EPA) has submitted an information collection request (ICR), Information Requirements for Boilers and Industrial Furnaces, EPA ICR Number 1361.19, OMB Control Number 2050-0073) to the Office of Management and Budget (OMB) for review and approval in accordance with the Paperwork Reduction Act. This is a proposed extension of the ICR, which is currently approved through January 31, 2025. Public comments were previously requested via the Federal Register on May 13, 2024 during a 60-day comment period. This notice allows for an additional 30 days for public comments.

DATES: Comments may be submitted on or before December 23, 2024.

ADDRESSES: Submit your comments, referencing Docket ID No. EPA-HQ-OLEM-2016-0465, to EPA online using www.regulations.gov (our preferred method), or by mail to: EPA Docket Center, U.S. Environmental Protection Agency, Mail Code 28221T, 1200 Pennsylvania Avenue NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Peggy Vyas, Environmental Protection Agency, 1200 Pennsylvania Ave. NW, Washington, DC 20460; telephone number: 202-566-0453; vyas.peggy@epa.gov.

SUPPLEMENTARY INFORMATION: This is a proposed extension of the ICR, which is currently approved through January 31, 2025. An agency may not conduct or sponsor and a person is not required to respond to a collection of information unless it displays a currently valid OMB control number.

Public comments were previously requested via the Federal Register on May 13, 2024 during a 60-day comment period (89 FR 41432). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: EPA regulates the burning of hazardous waste in boilers, incinerators, and industrial furnaces (BIFs) under 40 CFR parts 63, 264, 265, 266 and 270. This ICR describes the paperwork requirements that apply to the owners and operators of BIFs. This includes the general facility requirements at 40 CFR parts 264 and 265, subparts B thru H; the requirements applicable to BIF units at 40 CFR part 266; and the RCRA Part B permit application and modification requirements at 40 CFR part 270.

Form Numbers: None.

Respondents/affected entities: Business or other for-profit.

Respondent's obligation to respond: Mandatory (per 40 CFR 264, 265, and 270).

Estimated number of respondents: 36.

Frequency of response: On occasion.

Total estimated burden: 39,758 hours per year. Burden is defined at 5 CFR 1320.03(b).

Total estimated cost: $0 in annualized capital/startup, and $2,823,121 in annualized operation & maintenance costs.

Changes in the Estimates: There is no change in burden hours associated with this renewal and the O&M costs have stayed the same.

Courtney Kerwin,
Director, Information Engagement Division.

[FR Doc. 2024-27313 Filed 11-20-24; 8:45 am]

BILLING CODE 6560-50-P